DEPARTMENT OF TRANSPORTATION

Federal Aviation Administration

14 CFR Part 97

[Docket No. 30709 Amdt. No 3360]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 24, 2010. The compliance date for each SIAP, associated Takeoff Minimums, and ODP is specified in the amendatory provisions.

The incorporation by reference of certain publications listed in the regulations is approved by the Director of the Federal Register as of February 24, 2010.

ADDRESSES: Availability of matters incorporated by reference in the amendment is as follows:

For Examination

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (Air).

Issued in Washington, DC, on February 5, 2010.
John M. Allen,
Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 11 MAR 2010

Brewton, AL, Brewton Muni, GPS RWY 6, Orig, CANCELLED

Brewton, AL, Brewton Muni, RNAV (GPS) RWY 6, Orig

Brewton, AL, Brewton Muni, RNAV (GPS) RWY 12, Orig

Brewton, AL, Brewton Muni, RNAV (GPS) RWY 24, Orig

Brewton, AL, Brewton Muni, RNAV (GPS) RWY 30, Orig

Brewton, AL, Brewton Muni, Takeoff Minimums and Textual DP, Amdt 2

Pell City, AL, St. Clair County, RNAV (GPS) RWY 3, Amdt 2A

Dover/Cheswold, DE, Delaware Airpark, RNAV (GPS) RWY 9, Amdt 1

Atlanta, GA, Newman Coweta County, VOR/DME-A, Amdt 8

Le Mars, IA, Le Mars Muni, VOR/DME RWY 36, Amdt 3

Greenville, IL, Greenville, Takeoff Minimums and Obstacle DP, Orig

Greenville, IL, Greenville, VOR/DME-A, Amdt 3

Georgetown, KY, Georgetown Scott Co-Marshall Field, VOR/DME RWY 3, Amdt 1

Winnfield, LA, David G Joyce, RNAV (GPS) RWY 9, Orig-A

Southbridge, MA, Southbridge Muni, GPS RWY 2, Orig, CANCELLED

Southbridge, MA, Southbridge Muni, RNAV (GPS) RWY 2, Orig

Southbridge, MA, Southbridge Muni, Takeoff Minimums and Obstacle DP, Amdt 3

Allegan, MI, Padgham Field, RNAV (GPS) RWY 11, Orig-A

Allegan, MI, Padgham Field, VOR RWY 29, Amdt 14

Mountain Grove, MO, Mountain Grove Memorial, Takeoff Minimums and Obstacle DP, Amdt 1

Drew, MS, Ruleville-Drew, Takeoff Minimums and Obstacle DP, Orig

Hattiesburg/Laurel, MS, Hattiesburg-Laurel Rgnl, RNAV (GPS) RWY 18, Amdt 1

Hattiesburg/Laurel, MS, Hattiesburg-Laurel Rgnl, RNAV (GPS) RWY 36, Amdt 1

Concord, NC, Concord Rgnl, Takeoff Minimums and Obstacle DP, Amdt 3

Whitefield, NH, Mount Washington Rgnl, RNAV (GPS) RWY 10, Amdt 1, CANCELLED

Princeton/Rocky Hill, NJ, Princeton, RNAV (GPS) RWY 10, Amdt 1

Monticello, NY, Sullivan County Intl, NDB RWY 15, Amdt 7

Hohenwald, TN, John A. Baker Field, Takeoff Minimums and Obstacle DP, Orig

Paris, TN, Henry County, Takeoff Minimums and Obstacle DP, Orig

Point Pleasant, WV, Mason County, GPS RWY 25, Orig-A, CANCELLED

Point Pleasant, WV, Mason County, RNAV (GPS) RWY 7, Orig

Point Pleasant, WV, Mason County, RNAV (GPS) RWY 25, Orig

Effective 8 APR 2010

Galena, AK, Edward G. Pitka SR, RNAV (GPS) RWY 7, Amdt 1

Galena, AK, Edward G. Pitka SR, RNAV (GPS) RWY 25, Amdt 1

Galena, AK, Edward G. Pitka SR, Takeoff Minimums and Obstacle DP, Orig

Galena, AK, Edward G. Pitka SR, VOR/DME RWY 7, Amdt 7

Galena, AK, Edward G. Pitka SR, VOR/DME RWY 25, Amdt 10

Nuiqsut, AK, Nuiqsut, Takeoff Minimums and Obstacle DP, Orig

Scottsdale, AZ, Scottsdale, VOR-C, Amdt 1

Bolingbrook, IL, Bolingbrook's Clow Intl, Takeoff Minimums and Obstacle DP, Orig

Carbondale/Murphysboro, IL, Southern Illinois, VOR OR GPS-A, Amdt 5C, CANCELLED

Mount Carmel, IL, Mount Carmel Muni, RNAV (GPS) RWY 4, Orig

Mount Carmel, IL, Mount Carmel Muni, RNAV (GPS) RWY 22, Orig

Vicksburg, MS, Vicksburg Muni, NDB RWY 1, Amdt 2, CANCELLED

Fargo, ND, Hector Intl, RNAV (GPS) RWY 18, Amdt 1

North Platte, NE, North Platte Rgnl Airport Lee Bird Field, ILS OR LOC RWY 30, Amdt 6

North Platte, NE, North Platte Rgnl Airport Lee Bird Field, RNAV (GPS) RWY 35, Orig

North Platte, NE, North Platte Rgnl Airport Lee Bird Field, VOR RWY 35, Amdt 18

Farmingdale, NY, Republic, GPS RWY 1, Orig-A, CANCELLED

Farmingdale, NY, Republic, GPS RWY 14, Orig-B, CANCELLED

Farmingdale, NY, Republic, GPS RWY 19, Orig, CANCELLED

Farmingdale, NY, Republic, ILS OR LOC RWY 14, Amdt 8

Farmingdale, NY, Republic, RNAV (GPS) RWY 1, Orig

Farmingdale, NY, Republic, RNAV (GPS) RWY 14, Orig

Farmingdale, NY, Republic, RNAV (GPS) RWY 19, Orig

Farmingdale, NY, Republic, RNAV (GPS) RWY 32, Orig

Montgomery, NY, Orange County, ILS OR LOC RWY 3, Amdt 3

Montgomery, NY, Orange County, RNAV (GPS) RWY 3, Amdt 1

Montgomery, NY, Orange County, RNAV (GPS) RWY 8, Amdt 1

Montgomery, NY, Orange County, RNAV (GPS) RWY 21, Amdt 1

Montgomery, NY, Orange County, RNAV (GPS) RWY 26, Amdt 1

Enid, OK, Enid Woodring Rgnl, RNAV (GPS) RWY 17, Orig-A

Doylestown, PA, Doylestown, RNAV (GPS) RWY 5, Orig

Doylestown, PA, Doylestown, RNAV (GPS) RWY 23, Amdt 1

Greer, SC, Greenville-Spartanburg Intl-Roger Milliken, ILS OR LOC RWY 22, Amdt 4

Rapid City, SD, Rapid City Rgnl, ILS OR LOC RWY 32, Amdt 18

Rapid City, SD, Rapid City Rgnl, RNAV (GPS) RWY 14, Amdt 2

Rapid City, SD, Rapid City Rgnl, RNAV (GPS) RWY 32, Amdt 1

Fayetteville, TN, Fayetteville Muni, GPS RWY 2, Orig-B, CANCELLED

Fayetteville, TN, Fayetteville Muni, RNAV (GPS) RWY 2, Orig

Fayetteville, TN, Fayetteville Muni, RNAV (GPS) RWY 20, Amdt 1

Burnet, TX, Burnet Muni/Kate Craddock Field, RNAV (GPS) RWY 1, Orig-A

Deer Park, WA, Deer Park, Takeoff Minimums and Obstacle DP, Amdt 1

Spokane, WA, Felts Field, Takeoff Minimums and Obstacle DP, Amdt 5

Spokane, WA, Felts Field, VOR RWY 3L, Amdt 4

Rhinelander, WI, Rhinelander-Oneida County, Takeoff Minimums and Obstacle DP, Amdt 4

Rock Springs, WY, Rock Springs-Sweetwater County, ILS OR LOC/DME RWY 27, Amdt 1

Rock Springs, WY, Rock Springs-Sweetwater County, RNAV (GPS) RWY 9, Orig

Rock Springs, WY, Rock Springs-Sweetwater County, RNAV (GPS) RWY 27, Amdt 1

Rock Springs, WY, Rock Springs-Sweetwater County, RNAV (GPS) Y RWY 27, Orig-A, CANCELLED

Rock Springs, WY, Rock Springs-Sweetwater County, Takeoff Minimums and Obstacle DP, Amdt 6

Rock Springs, WY, Rock Springs-Sweetwater County, VOR/DME RWY 9, Amdt 3

On January 28, 2010 (75 FR 18) the FAA published an Amendment in Docket No. 30705 to Part 97 of the Federal Aviation Regulations under section 97.33.

The following entries have changed effective date to 08 April 2010:

Saluda, SC, Saluda County, RNAV (GPS) RWY 1, Orig

Saluda, SC, Saluda County, RNAV (GPS) RWY 19, Orig

[FR Doc. 2010-3129 Filed 2-23-10; 8:45 am]

BILLING CODE 4910-13-P